CORPORATION FOR NATIONAL AND COMMUNITY SERVICE

Sunshine Act Notice

The Board of Directors of the Corporation for National and Community Service gives notice of the following meeting:

Date and Time: Wednesday, September 16, 2009, 1 p.m.-3 p.m.

Place: The Hyatt Regency Crystal City, 2799 Jefferson Davis Highway, Arlington, VA 22202. Call in number: (703) 418-1234.

Status: Open.

Matters To Be Considered:

1-1:45 p.m.

I. Chair's Opening Comments.

II. Consideration of Previous Meeting's Minutes.

III. CEO Report.

IV. Committee Reports: Oversight, Governance, and Audit Committee; Program, Budget, and Evaluation Committee; and External Relations Committee.

1:45-3 p.m.

V. Public Testimony on United We Serve Summer and 9/11 Activities.

Accommodations: Anyone who needs an interpreter or other accommodation should notify the Corporation's contact person by 5 p.m. Monday, September 7, 2009.

Contact Person for More Information: Emily Samose, Office of the CEO, Corporation for National and Community Service, 10th Floor, Room 9613C, 1201 New York Avenue NW., Washington, DC 20525. Phone (202) 606-7564. Fax (202) 606-3460. TDD: (202) 606-3472. E-mail: esamose@cns.gov.

Dated: August 27, 2009.
Frank R. Trinity,
General Counsel.

[FR Doc. E9-21220 Filed 8-28-09; 4:15 pm]

BILLING CODE 6050-$$-P